DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before June 21, 2007.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments.

FOR FURTHER INFORMATION CONTACT: Linda Belluomini, Fish and Wildlife Biologist, at the above Portland address (telephone: 503-231-2063; fax: 503-231-6243).

SUPPLEMENTARY INFORMATION: The following applicants have applied for scientific research permits to conduct certain activities with endangered species pursuant to section 10(a)(1)(A) of the Endangered Species Act (16 U.S.C. 1531 et seq.). The U.S. Fish and Wildlife Service (we) solicits review and comment from local, State, and Federal agencies, and the public on the following permit requests.

Permit No. TE-003483

Applicant: U.S. Geological Survey, Hawaii National Park, Hawaii.

The permittee requests an amendment to take (capture and take into captivity) the palila (Loxioides bailleui), on the island of Hawaii, in the State of Hawaii, in conjunction with captive propagation for the purpose of enhancing its survival.

Permit No. TE-146777

Applicant: Arleone Dibben-Young, Kaunakakai, Hawaii.

The applicant requests a permit to take (capture, band, mark, and release) the Hawaiian stilt (Himantopus mexicanus knudseni) and the Hawaiian coot (Fulica alai) in conjunction with life history and disease studies on the island of Maui, in the State of Hawaii for the purpose of enhancing their survival.

Permit No. TE-056557

Applicant: Bureau of Reclamation, Burley, Idaho.

The permittee requests an amendment to take (capture, collect, and sacrifice) the Snake River physa snail (Physa natricina) in conjunction with demographic, hydrologic, and genetic research throughout the range of the species for the purpose of enhancing its survival.

Public Review of Comments

We solicit public review and comment on each of these recovery permit applications.

Before including your address, phone number, e-mail address, or other personal identifying information in your comment, you should be aware that your entire comment—including your personal identifying information—may be made publicly available at any time. While you can ask us in your comment to withhold your personal identifying information from public review, we cannot guarantee that we will be able to do so.

Comments and materials received will be available for public inspection, by appointment, during normal business hours at the above address.

Dated: May 15, 2007.
David J. Wesley,
Acting Regional Director, Region 1, U.S. Fish and Wildlife Service.

[FR Doc. E7-9802 Filed 5-21-07; 8:45 am]

BILLING CODE 4310-55-P